DEPARTMENT OF ENERGY

Federal Energy Regulatory Commission

Combined Notice of Filings

Take notice that the Commission has received the following Natural Gas Pipeline Rate and Refund Report filings:

Docket Numbers: RP11-1805-000.

Applicants: Arlington Storage Company, LLC.

Description: Arlington Storage Company, LLC submits tariff filing per 154.203: ASC Baseline Tariff Resubmission in Compliance with RP10-1324 to be effective 2/25/2011.

Filed Date: 02/25/2011.

Accession Number: 20110225-5098.

Comment Date: 5 p.m. Eastern Time on Wednesday, March 09, 2011.

Docket Numbers: RP11-1806-000.

Applicants: Arlington Storage Company, LLC.

Description: Arlington Storage Company, LLC submits tariff filing per 154.602: ASC Cancellation of First Revised Vol. No. 1 in Compliance with RP10-1324 to be effective 2/25/2011.

Filed Date: 02/25/2011.

Accession Number: 20110225-5099.

Comment Date: 5 p.m. Eastern Time on Wednesday, March 09, 2011.

Docket Numbers: RP11-1807-000.

Applicants: Viking Gas Transmission Company.

Description: Viking Gas Transmission Company submits tariff filing per 154.204: Semi Annual FLRP-Spring 2011 to be effective 4/1/2011.

Filed Date: 02/25/2011.

Accession Number: 20110225-5140.

Comment Date: 5 p.m. Eastern Time on Wednesday, March 09, 2011.

Docket Numbers: RP11-1808-000.

Applicants: Guardian Pipeline, L.L.C.

Description: Guardian Pipeline, L.L.C. submits tariff filing per 154.204: EPC Semi Annual Adjustment to be effective 4/1/2011.

Filed Date: 02/25/2011.

Accession Number: 20110225-5143.

Comment Date: 5 p.m. Eastern Time on Wednesday, March 09, 2011.

Docket Numbers: RP11-1809-000.

Applicants: Southern Natural Gas Company.

Description: Southern Natural Gas Company submits tariff filing per 154.403(d)(2): Fuel Retention Rates to be effective 4/1/2011.

Filed Date: 02/28/2011.

Accession Number: 20110228-5046.

Comment Date: 5 p.m. Eastern Time on Monday, March 14, 2011.

Docket Numbers: RP11-1810-000.

Applicants: Southern Star Central Gas Pipeline, Inc.

Description: Southern Star Central Gas Pipeline, Inc. submits tariff filing per 154.204: Elk City Tariff Sheet Filing to be effective 4/1/2011.

Filed Date: 02/28/2011.

Accession Number: 20110228-5047.

Comment Date: 5 p.m. Eastern Time on Monday, March 14, 2011.

Docket Numbers: RP11-1811-000.

Applicants: Millennium Pipeline Company, LLC.

Description: Millennium Pipeline Company, LLC requests extension of time to complete Annual RAM filing under section 32 of its FERC Tariff.

Filed Date: 02/28/2011.

Accession Number: 20110228-5064.

Comment Date: 5 p.m. Eastern Time on Monday, March 14, 2011.

Docket Numbers: RP11-1812-000.

Applicants: T.W. Phillips Pipeline Corp.

Description: T.W. Phillips Pipeline Corp. submits tariff filing per 154.402: ACA Annual Adjustment Filing to be effective 4/1/2011.

Filed Date: 02/28/2011.

Accession Number: 20110228-5071.

Comment Date: 5 p.m. Eastern Time on Monday, March 14, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: February 28, 2011.
Nathaniel J. Davis, Sr.,
Deputy Secretary.

[FR Doc. 2011-4838 Filed 3-3-11; 8:45 am]

BILLING CODE 6717-01-P